DEPARTMENT OF TRANSPORTATION

National Highway Traffic Safety Administration

49 CFR Part 571

[Docket No. NHTSA 2004-19031]

RIN 2127-AH81

Federal Motor Vehicle Safety Standards; Lamps, Reflective Devices, and Associated Equipment

AGENCY: National Highway Traffic Safety Administration (NHTSA), DOT.

ACTION: Notice of withdrawal of request for comments.

SUMMARY: In 2001, this agency published a request for comments seeking information on the causes and potential safety risks associated with headlamp glare. After receiving and reviewing more than 5,000 public comments, the agency has identified five separate issues that may become the subject of rulemaking in the future. However, before the agency considers whether to initiate rulemaking, it plans to conduct evaluations and research in a number of areas. Accordingly, the agency is terminating public proceedings on this subject by withdrawing the request for comments. The agency will continue to study the issue of glare and headlamp performance, including any new information submitted by the public.

FOR FURTHER INFORMATION CONTACT: The following persons at the NHTSA, 400 Seventh Street, SW., Washington, DC 20590.

For non-legal issues, you may call Mr. Richard Van Iderstine, Office of Crash Avoidance Standards (telephone: 202-366-2720) (fax: 202-366-7002).

For legal issues, you may call Mr. Eric Stas, Office of Chief Counsel (Telephone: 202-366-2992) (Fax: 202-366-3820).

SUPPLEMENTARY INFORMATION:

I. Background

Federal Motor Vehicle Safety Standard (FMVSS) No. 108, Lamps, Reflective Devices, and Associated Equipment, establishes performance requirements for lighting-related equipment on new motor vehicles, as well as their location. The standard also covers replacement lighting equipment. The present version of FMVSS No. 108 sets minimum and maximum headlamp intensities to ensure that the driver of the vehicle sees as much of the roadway as possible, while minimizing the glare for other drivers using the road.

In response to over 200 consumer complaints of headlamp glare, NHTSA published a request for comments on September 28, 2001, on the issue of glare from headlamps (see 66 FR 49594; see also 66 FR 59769 (November 30, 2001) (notice reopening comment period)). Some of the questions in the request for comments addressed auxiliary forward illumination devices, high-mounted headlamps, glare from high-intensity discharge (HID) headlamps, and light source and color issues.

As noted in the summary above, NHTSA received over 5,000 submissions pursuant to this request for comments, most of which can be classified as individual complaints from persons concerned about the increasing incidence of nighttime glare from front-mounted lamps.¹ The commenters most frequently discussed extra headlamps, high-mounted headlamps, blue headlamps, HID headlamps, and certain other issues related to glare.

¹ See Docket No. NHTSA-2001-8885.

After reviewing these comments, the agency has identified five discrete issue areas related to glare that need further evaluation and may be considered for future regulatory action: (1) Auxiliary forward illumination devices; (2) headlamp mounting height; (3) headlamp light source issues; (4) HID headlamps, and (5) aiming.

NHTSA has also identified several research topics related to glare that the agency is undertaking with universities, including research to quantify the benefits of reducing glare and improving headlamp performance, human factors testing of driver reaction to various types of headlamps, the potential safety-related benefits of adaptive frontal headlighting systems, and measurement of the effects of spectral distribution, lamp size, and luminance on glare and visual performance.

II. Reason for Withdrawal

In light of the agency's plans for further evaluation and research related to glare, there will be no further public proceedings in the immediate future. We are terminating the current public proceedings by withdrawing the request for comments. We may consider initiating separate glare-related rulemakings under FMVSS No. 108 on the above-mentioned topics in the future. If we decide to do so, we will commence new public proceedings.

Authority: 49 U.S.C. 322, 30111, 30115, 30117, and 30166; delegation of authority at 49 CFR 1.50.

Issued: August 31, 2004.
Stephen R. Kratzke,
Associate Administrator for Rulemaking.

[FR Doc. 04-20258 Filed 9-7-04; 8:45 am]

BILLING CODE 4910-59-P